FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than August 25, 2016.

A. Federal Reserve Bank of St. Louis (David L. Hubbard, Senior Manager) P.O. Box 442, St. Louis, Missouri 63166-2034. Comments can also be sent electronically to Comments.applications@stls.frb.org:

1. Notice by the J.T. Compton SBI Trust, James T. Compton, Mountain View, Arkansas, as trustee; the James Kent Compton SBI Trust, James Kent Compton, Conway, Arkansas, as trustee, the Charles Kevin Compton SBI Trust, Charles Kevin Compton, Little Rock, Arkansas, as trustee; and the Kris David Compton SBI Trust, Kris David Compton, and Debra Lynn Walters Compton, both of Hendersonville, North Carolina, as co-trustees, all as general partners of the Compton Stone Quarry Family Limited Partnership, LLLP, Morrilton, Arkansas and as members of a family control group. The control group also includes the J.T. Compton GST Exempt Trust, James T. Compton as trustee, James T. Compton, individually, Lauren A. Compton, the Niva Compton Lancaster GST Exempt Trust, and the Niva Lancaster Revocable Living Trust, Niva C. Lancaster, Springfield, Missouri, as trustees; and the Daniels Family Trust dated July 12, 2006, Charles Daniels and Sonya Daniels, both of Navarre, Florida, as co-trustees, and the Douglas Lancaster Trust, Sonya Daniels as trustee; to acquire and retain the voting shares of Stone Bancshares, Inc., Mountain View, Arkansas, and thereby acquire and retain shares of Stone Bank, Mountain View, Arkansas.

Board of Governors of the Federal Reserve System, August 5, 2016.
Margaret McCloskey Shanks,
Deputy Secretary of the Board.

[FR Doc. 2016-19058 Filed 8-10-16; 8:45 am]

BILLING CODE 6210-01-P